DEPARTMENT OF ENERGY

Federal Energy Regulatory Commission

Combined Notice of Filings #2

Take notice that the Commission received the following electric rate filings:

Docket Numbers: ER10-1585-010; ER10-1594-010; ER16-733-001; ER10-1617-010; ER16-1148-001; ER12-60-012; ER10-1632-012; ER10-1626-007; ER10-1628-010.

Applicants: Alabama Electric Marketing, LLC, California Electric Marketing, LLC, LQA, LLC, New Mexico Electric Marketing, LLC, Tenaska Energía de Mexico, S. de R. L. d, Tenaska Power Management, LLC, Tenaska Power Services Co., Tenaska Virginia Partners, L.P., Texas Electric Marketing, LLC.

Description: Supplement to June 28, 2016 Updated Market Power Analysis of the Tenaska Northeast MBR Sellers.

Filed Date: 11/16/17.

Accession Number: 20171116-5099.

Comments Due: 5 p.m. ET 12/7/17.

Docket Numbers: ER18-295-001.

Applicants: Louisville Gas and Electric Company.

Description: Tariff Amendment: Refiling EKPC NITSA Under Correct Record ID to be effective 10/16/2017.

Filed Date: 11/16/17.

Accession Number: 20171116-5059.

Comments Due: 5 p.m. ET 12/7/17.

Docket Numbers: ER18-302-000.

Applicants: Tampa Electric Company.

Description: § 205(d) Rate Filing: Section 205 Requirements Depreciation Rates—Polk 2 Buildout to be effective 2/1/2017.

Filed Date: 11/16/17.

Accession Number: 20171116-5060.

Comments Due: 5 p.m. ET 12/7/17.

Docket Numbers: ER18-303-000.

Applicants: South Jersey Energy ISO2, LLC.

Description: Tariff Cancellation: Cancel market-based rate tariff to be effective 11/17/2017.

Filed Date: 11/16/17.

Accession Number: 20171116-5061.

Comments Due: 5 p.m. ET 12/7/17.

Docket Numbers: ER18-304-000.

Applicants: Southern California Edison Company.

Description: § 205(d) Rate Filing: LGIA Sienna Solar Farm Project SA No. 199 to be effective 11/17/2017.

Filed Date: 11/16/17.

Accession Number: 20171116-5063.

Comments Due: 5 p.m. ET 12/7/17.

Docket Numbers: ER18-305-000.

Applicants: Bishop Hill Energy LLC.

Description: § 205(d) Rate Filing: Revised Rate Schedule to be effective 10/15/2017.

Filed Date: 11/16/17.

Accession Number: 20171116-5109.

Comments Due: 5 p.m. ET 12/7/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 16, 2017.
Kimberly D. Bose,
Secretary.

[FR Doc. 2017-25325 Filed 11-21-17; 8:45 am]

BILLING CODE 6717-01-P